ENVIRONMENTAL PROTECTION AGENCY

40 CFR Part 52

[MD121-3082b; FRL-7144-4]

Approval and Promulgation of Air Quality Implementation Plans; Maryland Nitrogen Oxide Averaging Plan for Constellation Power Source Generation

AGENCY: Environmental Protection Agency (EPA).

ACTION: Proposed rule.

SUMMARY: EPA proposes to approve a State Implementation Plan (SIP) revision submitted by the State of Maryland on April 25, 2001 for the purpose of establishing an inter-facility averaging plan for emissions of nitrogen oxides (NOX) at facilities located in Maryland that are owned by Constellation Power Source Generation Inc. The SIP revision consists of a Consent Order issued to Constellation Power Source Generation Inc. establishing a system-wide emissions averaging plan to comply with the applicable NOX reasonably available control technology (RACT) requirements for 10 boiler units located at five different electric generating facilities owned by Constellation Power Source Generation Inc. In the Final Rules section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by March 29, 2002.

ADDRESSES: Written comments should be addressed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Maryland Department of the Environment, 2500 Broening Highway, Baltimore, Maryland, 21224.

FOR FURTHER INFORMATION CONTACT: David L. Arnold (215) 814-2172, at the EPA Region III address above, or by e-mail at arnold.david@epa.gov.

SUPPLEMENTARY INFORMATION: For further information about the Constellation Power emissions averaging plan, please see the information provided in the direct final action, with the same title, that is located in the “Rules and Regulations” section of this Federal Register publication.

Dated: February 7, 2002.
Donald S. Welsh,
Regional Administrator, Region III.

[FR Doc. 02-4524 Filed 2-26-02; 8:45 am]

BILLING CODE 6560-50-P